DEPARTMENT OF JUSTICE

Notice of Lodging of Proposed Consent Decree Under the Clean Water Act

On January 11, 2022, the Department of Justice lodged a proposed Consent Decree with the United States District Court for the Western District of Pennsylvania in the lawsuit entitled United States and Pennsylvania Department of Environmental Protection v. West Penn Power Company (West Penn), Civil Action No. 2:22-cv-00051-NR.

This case relates to alleged violations of monthly effluent limitations contained in National Pollution Discharge Elimination System (NPDES) permits issued to West Penn by the Pennsylvania Department of Environmental Protection (PADEP) and related to boron levels in leachate discharges from two closed coal ash landfills in Western Pennsylvania. The Mingo Landfill is associated with the retired, coal-fired Mitchell Power Plant in Union Township, Washington County, and the Springdale Landfill is associated with the retired coal-fired Springdale Power Plant in Frazer Township, Allegheny County. The case involves claims for civil penalties and injunctive relief under the Clean Water Act, 33 U.S.C. 1251 et seq., as well as a related count under the Pennsylvania Clean Streams Law, 35 P. S. §§ 691.1-691.801 for the alleged violations at the Mingo Landfill. The proposed settlement embodied in the lodged Consent Decree requires West Penn to install a new gravity pipeline from the Springdale Landfill to a new outfall location in the Allegheny River, and to operate a recently installed gravity pipeline from the Mingo Landfill to Peters Creek. Both new outfalls will require West Penn to operate the pipelines in compliance with newly issued NPDES permits. West Penn is also required to pay civil penalties of $305,000 to the United States and $305,000 to PADEP.

The publication of this notice opens a period for public comment on the Consent Decree. Comments should be addressed to the Assistant Attorney General, Environment and Natural Resources Division, and should refer to United States et al. v. West Penn Power, D.J. Ref. No. 90-5-1-1-11894. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $15.50 (25 cents per page reproduction cost) payable to the United States Treasury.

Jeffrey Sands,
Assistant Section Chief, Environmental Enforcement Section, Environment and Natural Resources Division.

[FR Doc. 2022-00817 Filed 1-14-22; 8:45 am]

BILLING CODE 4410-15-P